DEPARTMENT OF STATE

[Public Notice 11128]

Advisory Committee on Historical Diplomatic Documentation—Notice of Virtual Open Meeting for June 15, 2020

SUMMARY: The Advisory Committee on Historical Diplomatic Documentation will meet on June 15 in open session to discuss unclassified matters concerning the status of the Foreign Relations series.

The Committee will meet in open session from 10:00 a.m. until 11:00 a.m. through a virtual platform TBD. RSVP and requests for reasonable accommodation should be sent not later than June 8, 2020.

RSVP Instructions. Members of the public planning to attend the virtual meeting should RSVP by June 8 to Julie Fort at FortJL@state.gov. Instructions on how to join the virtual meeting will be provided upon receipt of RSVP.

Questions concerning the meeting should be directed to Adam M. Howard, Executive Secretary, Advisory Committee on Historical Diplomatic Documentation, Department of State, Office of the Historian, Washington, DC 20372, history@state.gov.

Note that requests for reasonable accommodation received after June 8 will be considered but might not be possible to fulfill.

Zachary A. Parker,
Director, Office of Directives Management, Department of State.

[FR Doc. 2020-11493 Filed 5-27-20; 8:45 am]

BILLING CODE 4710-34-P